NATIONAL AERONAUTICS AND SPACE ADMINISTRATION

[Notice: (10-134)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Lori Parker, National Aeronautics and Space Administration, Washington, DC 20546-0001.

FOR FURTHER INFORMATION CONTACT: Requests for additional information or copies of the information collection instrument(s) and instructions should be directed to Lori Parker, NASA PRA Officer, NASA Headquarters, 300 E Street, SW., JF0000, Washington, DC 20546, (202) 358-1351, Lori.Parker@nasa.gov.

SUPPLEMENTARY INFORMATION:

I. Abstract

This information collection, JSC Form 1625, has to do with operational groups at JSC and other NASA centers, NASA contractors, subcontractors, and vendors to provide descriptions of radioactive items used in or supplied for human space missions or approved JSC projects. The form also provides records of accountability, responsibility, transfer, location, and disposition of these items.

II. Method of Collection

The form, which is now available electronically, accompanies a physical shipment of nuclear materials and requires recipients to confirm shipment receipt. Converting the form to an electronic format and making it available on line has significantly reduced the burden of information gathering for respondents.

III. Data

Title: Radioactive Material Transfer Receipt.

OMB Number: 2700-0007.

Type of review: Renewal without change of Currently Approved Collection.

Affected Public: Business or other for-profit.

Estimated Number of Respondents: 25.

Estimated Total Annual Burden Hours: 10.

Estimated Total Annual Cost to Government: $10,000.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA Clearance Officer.

[FR Doc. 2010-26974 Filed 10-25-10; 8:45 am]

BILLING CODE 7510-13-P